Title 3—

The President

Executive Order 13832 of May 9, 2018

Enhancing Noncompetitive Civil Service Appointments of Military Spouses

By the authority vested in me as President by the Constitution and the laws of the United States of America, including section 1784 of title 10, United States Code, and sections 3301 and 3302 of title 5, United States Code, it is hereby ordered as follows:

Section 1. Definitions. (a) “Military spouse” means:

(i) the husband or wife of a member of the Armed Forces who, as determined by the Secretary of Defense, is performing active duty pursuant to orders that authorize a permanent change of station move, if such husband or wife relocates to the member's new permanent duty station;

(ii) the husband or wife of a totally disabled retired or separated member of the Armed Forces; or

(iii) the unremarried widow or widower of a member of the Armed Forces killed while performing active duty.

(b) “Member of the Armed Forces” has the meaning set forth in 5 CFR 315.612(b)(4).

(c) “Agency” has the meaning set forth in section 3330d of title 5, United States Code.

(d) “Military spouse hiring authority” shall refer to the appointment authority set forth in 5 U.S.C. 3330d and 5 CFR 315.612.

Sec. 2. Policy. (a) Military spouses make critical contributions to the personal and financial success of our military families. Military service of spouses, however, often impairs the spouse's ability to obtain and maintain employment, and to achieve career goals. Multiple and frequent relocations make it challenging for military spouses to maintain the home front, to comply with licensure and other job requirements, and to obtain adequate childcare.

(b) It shall be the policy of the United States to enhance employment support for military spouses. This policy will assist agencies in tapping into a pool of talented individuals and will promote the national interest of the United States and the well-being of our military families. It will also help retain members of the Armed Forces, enhance military readiness, recognize the tremendous sacrifices and service of the members of our Armed Forces and their families, and decrease the burden of regulations that can inhibit the entry of military spouses into the workforce.

Sec. 3. Promoting Hiring for Military Spouses. (a) To the greatest extent possible consistent with hiring needs, agencies shall, when filling vacant positions in the competitive service, indicate in job opportunity announcements (JOAs) that they will consider candidates under the military spouse hiring authority in addition to candidates identified on the competitive or merit promotion certificate for the position as well as those candidates identified through any other hiring authority a JOA indicates an agency will consider.

(b) Agencies shall actively advertise and promote the military spouse hiring authority and actively solicit applications from military spouses for posted and other agency positions (including through USAJOBS).

(c) The Office of Personnel Management (OPM) shall consider whether changes to 5 CFR 315.612 are appropriate to account for cases in which there are no agency job openings within the geographic area of the permanent duty station of the member of the Armed Forces for which the member's spouse is qualified.

(d) OPM shall also periodically circulate notifications concerning the military spouse hiring authority and its eligibility requirements to each agency's Chief Human Capital Officer or the agency's equivalent officer, for such officer to transmit to appropriate offices and to notify eligible populations. Within 180 days of the date of this order, OPM shall post to its website, and circulate to each agency's Chief Human Capital Officer or the agency's equivalent officer, information about the military spouse hiring authority. That posting shall include a discussion of section 1131 of the National Defense Authorization Act for Fiscal Year 2017, Public Law 114-328, which amended 5 U.S.C. 3330d(c) to eliminate the time limitation on noncompetitive appointment for a relocating spouse of a member of the Armed Forces.

(e) Within 180 days of the date of this order, OPM shall educate agencies concerning the military spouse hiring authority and ensure human resources personnel and hiring managers are briefed on techniques for its effective use. Concurrently, within 180 days of the date of this order, OPM shall provide any additional clarifying guidance it deems appropriate to agencies on provisions of the Telework Enhancement Act of 2010, Public Law 111-292, and agencies shall ensure that human resources personnel and hiring managers are briefed as needed on techniques for the effective use of telework.

(f) Beginning in Fiscal Year 2019, agencies shall report annually (by December 31 of each year) to OPM and the Department of Labor the number of positions made available under the military spouse hiring authority, the number of applications submitted under the military spouse hiring authority, and the number of military spouses appointed under the military spouse hiring authority during the preceding fiscal year. Such report shall also describe actions taken during that period to advertise the military spouse hiring authority, as well as any other actions taken to promote the hiring of military spouses.

Sec. 4. Administrative Provisions. (a) The Director of OPM shall administer this order and shall, in coordination with the Secretary of Labor, through the Assistant to the President for Domestic Policy, provide an annual report to the President regarding the implementation of this order and any recommendations for improving the hiring of military spouses, including steps to enhance the effectiveness of the military spouse hiring authority.

(b) The annual report described in subsection (a) of this section shall also include recommendations, developed in consultation with the Secretary of Defense and the Secretary of Homeland Security, for actions that could be taken to improve license portability and remove barriers to the employment of military spouses.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 9, 2018.

[FR Doc. 2018-10403

Filed 5-11-18; 11:15 am]

Billing code 3295-F8-P